DEPARTMENT OF ENERGY

Federal Energy Regulatory Commission

Combined Notice of Filings #1

Take notice that the Commission received the following electric corporate filings:

Docket Numbers: EC13-154-000.

Applicants: TPF II USPG Holdings, LLC, TPF II USPG Merger Sub, Inc., US Power Generating Company, Astoria Generating Company, L.P.

Description: Joint Application for Approval of Under Section 203 of the Federal Power Act of TPF II USPG Holdings, LLC, et al.

Filed Date: 9/25/13.

Accession Number: 20130925-5157.

Comments Due: 5 p.m. ET 10/16/13

Take notice that the Commission received the following exempt wholesale generator filings:

Docket Numbers: EG13-60-000.

Applicants: Pheasant Run Wind, LLC.

Description: Notice of Self-Certification of Exempt Wholesale Generator Status of Pheasant Run Wind, LLC.

Filed Date: 9/25/13.

Accession Number: 20130925-5080.

Comments Due: 5 p.m. ET 10/16/13.

Docket Numbers: EG13-61-000.

Applicants: Pheasant Run Wind II, LLC.

Description: Notice of Self-Certification of Exempt Wholesale Generator Status of Pheasant Run Wind II, LLC.

Filed Date: 9/25/13.

Accession Number: 20130925-5081.

Comments Due: 5 p.m. ET 10/16/13.

Docket Numbers: EG13-62-000.

Applicants: Tuscola Wind II, LLC.

Description: Notice of Self-Certification of Exempt Wholesale Generator Status of Tuscola Wind II, LLC.

Filed Date: 9/25/13.

Accession Number: 20130925-5082.

Comments Due: 5 p.m. ET 10/16/13

Take notice that the Commission received the following electric rate filings:

Docket Numbers: ER13-2230-001.

Applicants: Premier Empire Energy, LLC.

Description: PEEL_MBRA_Amendment to be effective 10/24/2013.

Filed Date: 9/25/13.

Accession Number: 20130925-5001.

Comments Due: 5 p.m. ET 10/16/13.

Docket Numbers: ER13-2235-000.

Applicants: Southern California Edison Company.

Description: Complete Filing Letter to 8/26/2013 True-Up SGIA & Dist Serv Agmt with SCE PPD to be effective N/A.

Filed Date: 9/25/13.

Accession Number: 20130925-5061.

Comments Due: 5 p.m. ET 10/16/13.

Docket Numbers: ER13-2440-000.

Applicants: Southwest Power Pool, Inc.

Description: 2606 Kansas Municipal Energy Agency NITSA and NOA to be effective 9/1/2013.

Filed Date: 9/25/13.

Accession Number: 20130925-5062.

Comments Due: 5 p.m. ET 10/16/13.

Docket Numbers: ER13-2441-000.

Applicants: PacifiCorp.

Description: Termination of NextEra Non-Conforming Point to Point Agreements to be effective 12/17/2013.

Filed Date: 9/25/13.

Accession Number: 20130925-5075.

Comments Due: 5 p.m. ET 10/16/13.

Docket Numbers: ER13-2442-000.

Applicants: PacifiCorp.

Description: NextEra Mutual Termination of Trans Service Agmt to be effective 9/18/2013.

Filed Date: 9/25/13.

Accession Number: 20130925-5076.

Comments Due: 5 p.m. ET 10/16/13.

Docket Numbers: ER13-2443-000.

Applicants: ReEnergy Ashland LLC.

Description: Seller Category Revision to Market-Based Rate Tariff & Request for Notice Waiver to be effective 9/26/2013.

Filed Date: 9/25/13.

Accession Number: 20130925-5092.

Comments Due: 5 p.m. ET 10/16/13.

Docket Numbers: ER13-2444-000.

Applicants: ReEnergy Fort Fairfield LLC.

Description: Seller Category Revision to Market-Based Rate Tariff & Request for Notice Waiver to be effective 9/26/2013.

Filed Date: 9/25/13.

Accession Number: 20130925-5097.

Comments Due: 5 p.m. ET 10/16/13.

Docket Numbers: ER13-2445-000.

Applicants: ReEnergy Livermore Falls LLC.

Description: Seller Category Revision to Market-Based Rate Tariff & Request for Notice Waiver to be effective 9/26/2013 under ER13-2445 Filing Type: 30.

Filed Date: 9/25/13.

Accession Number: 20130925-5103.

Comments Due: 5 p.m. ET 10/16/13.

Docket Numbers: ER13-2446-000.

Applicants: ReEnergy Stratton LLC.

Description: Seller Category Revision to Market-Based Rate Tariff & Request for Notice Waiver to be effective 9/26/2013.

Filed Date: 9/25/13.

Accession Number: 20130925-5104.

Comments Due: 5 p.m. ET 10/16/13.

Docket Numbers: ER13-2447-000.

Applicants: Midcontinent Independent System Operator, Inc.

Description: 09-25-2013 SA 738 ATC-Wisconsin Cancel v0.0.0 to be effective 2/9/2011.

Filed Date: 9/25/13.

Accession Number: 20130925-5112.

Comments Due: 5 p.m. ET 10/16/13.

Docket Numbers: ER13-2448-000.

Applicants: ReEnergy Black River LLC.

Description: Seller Category Revision to Market-Based Rate Tariff & Request for Notice Waiver to be effective 9/26/2013.

Filed Date: 9/25/13.

Accession Number: 20130925-5118.

Comments Due: 5 p.m. ET 10/16/13.

Docket Numbers: ER13-2449-000.

Applicants: Lyonsdale Biomass, LLC.

Description: Seller Category Revision to Market-Based Rate Tariff & Request for Notice Waiver to be effective 9/26/2013.

Filed Date: 9/25/13.

Accession Number: 20130925-5121.

Comments Due: 5 p.m. ET 10/16/13.

Docket Numbers: ER13-2450-000.

Applicants: ReEnergy Sterling CT Limited Partnership.

Description: Seller Category Revision to Market-Based Rate Tariff & Request for Notice Waiver to be effective 9/26/2013.

Filed Date: 9/25/13.

Accession Number: 20130925-5122.

Comments Due: 5 p.m. ET 10/16/13.

Docket Numbers: ER13-2451-000.

Applicants: NASDAQ OMX Commodities Clearing Company.

Description: Notice of Cancellation to be effective 9/26/2013.

Filed Date: 9/25/13.

Accession Number: 20130925-5123.

Comments Due: 5 p.m. ET 10/16/13.

Docket Numbers: ER13-2452-000.

Applicants: California Independent System Operator Corporation.

Description: 2013-09-25_RIMPR1_BCR to be effective 4/1/2014.

Filed Date: 9/25/13.

Accession Number: 20130925-5135.

Comments Due: 5 p.m. ET 10/16/13.

Docket Numbers: ER13-2453-000.

Applicants: Public Service Company of Colorado.

Description: 2013-09-25—Order No. 764 Compliance Filing to be effective 1/13/2014.

Filed Date: 9/25/13.

Accession Number: 20130925-5137.

Comments Due: 5 p.m. ET 10/16/13.

Docket Numbers: ER13-2454-000.

Applicants: Midcontinent Independent System Operator, Inc.

Description: 09-25-2013 SA 738 ATC-Wisconsin Cancel v0.0.0 to be effective 5/23/2013.

Filed Date: 9/25/13.

Accession Number: 20130925-5145.

Comments Due: 5 p.m. ET 10/16/13.

Docket Numbers: ER13-2455-000.

Applicants: Pacific Gas and Electric Company.

Description: Notice of Termination of Pacific Gas and Electric Company for the Crocker Solar SGIA, Service Agreement No. 212 under PG&E FERC Electric Tariff Volume No. 5.

Filed Date: 9/25/13.

Accession Number: 20130925-5155.

Comments Due: 5 p.m. ET 10/16/13.

Take notice that the Commission received the following electric securities filings:

Docket Numbers: ES13-56-000.

Applicants: Transource Missouri, LLC.

Description: Errata to September 20, 2013 Application of Transource Missouri, LLC for Authorization Under Section 204(A) of the Federal Power Act to Borrow Up to $350 Million.

Filed Date: 9/25/13.

Accession Number: 20130925-5158.

Comments Due: 5 p.m. ET 10/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2013.
Nathaniel J. Davis, Sr.,
Deputy Secretary.

[FR Doc. 2013-24370 Filed 10-4-13; 8:45 am]

BILLING CODE 6717-01-P